DEPARTMENT OF THE INTERIOR

Bureau of Land Management

Notice of Public Meeting: Resource Advisory Council to the Lower Snake River District

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Lower Snake River District Resource Advisory Council (RAC), will meet as indicated below.

DATES: The meeting will be held August 26, 2003, beginning 9 a.m. at the Bureau of Land Management, Idaho State Office in the first floor Ponderosa-Sagebrush Conference Rooms, located at 11387 South Vinnell Way, Boise, Idaho 83703. Public comment periods will be held after each topic on the agenda. The meeting will adjourn at 5 p.m.

FOR FURTHER INFORMATION CONTACT: MJ Byrne, Public Affairs Officer and RAC Coordinator, Lower Snake River District, 3948 Development Ave., Boise, ID 83705, Telephone (208) 384-3393.

SUPPLEMENTARY INFORMATION: The 15-member Council advises the Secretary of the Interior, through the Bureau of Land Management, on a variety of planning and management issues associated with public land management in southwestern Idaho. At this meeting, the following topics will be discussed:

• Subcommittee reports on Rangeland Standards and Guidelines, Sage Grouse Habitat Management, OHV and Transportation Management, River Recreation and Resource Management Plans, and Fire and Fuels Management;

• Two Resource Management Plans under development in the District—workshops for Alternatives development;

• Rangeland Standards and Guidelines analysis update;

• District wildfire activity for 2003, and District Fire Management Plan;

• Owyhee Initiative—General Overview and Progress Update;

• RAC Members will discuss what they heard from individuals at community and interest group meetings in August where the Department's Sustaining Working Landscapes Initiative (SWI), was added to agendas by the RAC's Rangeland Standards and Guidelines Subcommittee. The RAC is reserving at least two hours of their afternoon's agenda for all interested stakeholders, including Tribes, and the public, inviting their comments and participation in the discussion regarding SWI policy options and strategy for developing policy;

• Three Field Office Managers and the District Fire Manager provide updates on current activities and issues in their field office and the District.

• Idaho's Noxious Weed Program

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below. Expedited publication is requested to give the public adequate notice.

Dated: July 16, 2003.
Glen M. Secrist,
District Manager.

[FR Doc. 03-18588 Filed 7-21-03; 8:45 am]

BILLING CODE 4310-AG-P